DEPARTMENT OF TRANSPORTATION

Federal Aviation Administration

14 CFR Part 39

[Docket No. FAA-2015-8464; Directorate Identifier 2015-NM-050-AD; Amendment 39-18692; AD 2016-22-03]

RIN 2120-AA64

Airworthiness Directives; Bombardier, Inc. Airplanes

AGENCY: Federal Aviation Administration (FAA), Department of Transportation (DOT).

ACTION: Final rule.

SUMMARY: We are adopting a new airworthiness directive (AD) for all Bombardier, Inc. Model DHC-8-400 series airplanes. This AD was prompted by a revision by the manufacturer to the Certification Maintenance Requirements (CMR) of the Airworthiness Limitation Items (ALI), in the Maintenance Requirement Manual (MRM), that introduces a new CMR task that requires repetitive operational checks of the propeller overspeed governor. This AD requires revising the airplane maintenance or inspection program, as applicable, to incorporate a new CMR task. We are issuing this AD to prevent dormant failure of the propeller overspeed governor, which may lead to a loss of propeller overspeed protection and result in high propeller drag in flight.

DATES: This AD is effective November 30, 2016.

Examining the AD Docket

You may examine the AD docket on the Internet at http://www.regulations.gov by searching for and locating Docket No. FAA-2015-8464; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Morton Lee, Aerospace Engineer, Propulsion and Services Branch, ANE-173, FAA, New York Aircraft Certification Office (ACO), 1600 Stewart Avenue, Suite 410, Westbury, NY 11590; telephone: 516-228-7355; fax: 516-794-5531.

SUPPLEMENTARY INFORMATION:

Discussion

We issued a notice of proposed rulemaking (NPRM) to amend 14 CFR part 39 by adding an AD that would apply to all Bombardier, Inc. Model DHC-8-400 series airplanes. The NPRM published in the Federal Register on January 19, 2016 (81 FR 2785) (“the NPRM”). The NPRM was prompted by a revision by the manufacturer to the CMR of the ALI, in the MRM, that introduces a new CMR task that requires repetitive operational checks of the propeller overspeed governor. The NPRM proposed to require revising the airplane maintenance or inspection program, as applicable, to incorporate a new CMR task. We are issuing this AD to prevent dormant failure of the propeller overspeed governor, which may lead to a loss of propeller overspeed protection and result in high propeller drag in flight.

Transport Canada Civil Aviation (TCCA), which is the aviation authority for Canada, has issued Canadian AD CF-2014-43, dated December 18, 2014 (referred to after this as the Mandatory Continuing Airworthiness Information, or “the MCAI”), to correct an unsafe condition for all Bombardier, Inc. Model DHC-8-400 series airplanes. The MCAI states:

Bombardier Inc. has revised the Maintenance Requirement Manual PSM-1-84-7, Airworthiness Limitation Items (ALI), Part 2, Section 1, Certification Maintenance Requirements (CMR). This revision introduces a new CMR task, task number 612000-109, for the Operational Check of the Propeller Overspeed Governor to be performed every 200 flight hours.

This new task was introduced to minimize the probability of dormant failure of the propeller overspeed governor, which may lead to a loss of propeller overspeed protection and result in high propeller drag in-flight.

This [Canadian] AD is issued to mandate the incorporation of a new CMR task for the Propeller Overspeed Governor.

You may examine the MCAI in the AD docket on the Internet at http://www.regulations.gov by searching for and locating Docket No. FAA-2015-8464.

Comments

We gave the public the opportunity to participate in developing this AD. The following presents the comment received on the NPRM and the FAA's response.

Request To Specify Temporary Revision (TR) as Method of Compliance

Horizon Air requested that we revise paragraph (g) of the proposed AD, which would require revising the maintenance or inspection program, as applicable, to incorporate an operational check of the propeller overspeed governor using a method approved by the Manager, New York ACO, ANE-170, FAA. Horizon Air requested that we instead allow an operational check of the propeller overspeed governor using Bombardier “Temporary Revision (TR) ALI-129 of the DHC-8 Series 400 Maintenance Requirements Manual, PSM-1-84-7.” Horizon stated that the revised AD would then be similar to previous ADs that have mandated incorporation of maintenance program tasks. Horizon Air also requested that we add a note that allows the incorporation of the TR by the general revisions of the maintenance requirements manual (MRM).

We do not agree with the commenter's request. Because of certain formatting anomalies in the document, we cannot incorporate it by reference in this AD, so this AD requires revising the maintenance or inspection program to incorporate an operational check, using a method approved by the Manager, New York ACO, ANE-170, FAA. We referred to CMR task number 612000-109 of the MRM in note 1 to paragraph (g) of this AD to inform operators that the TR to the MRM is an additional source of guidance for the operational check of the propeller overspeed governor. We have not changed this AD in this regard.

Conclusion

We reviewed the relevant data, considered the comment received, and determined that air safety and the public interest require adopting this AD as proposed except for minor editorial changes. We have determined that these minor changes:

• Are consistent with the intent that was proposed in the NPRM for correcting the unsafe condition; and

• Do not add any additional burden upon the public than was already proposed in the NPRM.

Costs of Compliance

We estimate that this AD affects 82 airplanes of U.S. registry.

We also estimate that it would take about 1 work-hour per product to comply with the basic requirements of this AD. The average labor rate is $85 per work-hour. Based on these figures, we estimate the cost of this AD on U.S. operators to be $6,970, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-22-03 Bombardier, Inc.: Amendment 39-18692; Docket No. FAA-2015-8464; Directorate Identifier 2015-NM-050-AD.

(a) Effective Date

This AD is effective November 30, 2016.

(b) Affected ADs

None.

(c) Applicability

This AD applies to all Bombardier, Inc. Model DHC-8-400, -401, and -402 airplanes, certificated in any category.

(d) Subject

Air Transport Association (ATA) of America Code 61, Propellers/propulsors.

(e) Reason

This AD was prompted by a revision by the manufacturer to the Certification Maintenance Requirements (CMR) of the Airworthiness Limitation Items (ALI), in the Maintenance Requirement Manual (MRM), that introduces a new CMR task that requires repetitive operational checks of the propeller overspeed governor. We are issuing this AD to prevent dormant failure of the propeller overspeed governor, which may lead to a loss of propeller overspeed protection and result in high propeller drag in flight.

(f) Compliance

Comply with this AD within the compliance times specified, unless already done.

(g) Maintenance Program or Inspection Program Revision

Within 30 days after the effective date of this AD, revise the maintenance program or inspection program, as applicable, to incorporate an operational check of the propeller overspeed governor, CMR task number 612000-109, to be performed every 200 flight hours, using a method approved by the Manager, New York Aircraft Certification Office (ACO), ANE-170, FAA.

Note 1 to paragraph (g) of this AD: CMR task number 612000-109, Operational Check of the Propeller Overspeed Governor, in Bombardier Q400 Dash 8 Temporary Revision (TR) ALI-129, dated September 3, 2013, is an additional source of guidance for the operational check of the propeller overspeed governor specified in paragraph (g) of this AD.

(h) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone: 516-228-7300; fax: 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(i) Related Information

(1) Refer to Mandatory Continuing Airworthiness Information (MCAI) Canadian AD CF-2014-43, dated December 18, 2014, for related information. This MCAI may be found in the AD docket on the Internet at http://www.regulations.gov by searching for and locating Docket No. FAA-2015-8464.

(2) Service information identified in this AD that is not incorporated by reference is available at Bombardier, Inc., Q-Series Technical Help Desk, 123 Garratt Boulevard, Toronto, Ontario M3K 1Y5, Canada; telephone 416-375-4000; fax 416-375-4539; email thd.qseries@aero.bombardier.com; Internet http://www.bombardier.com.

(j) Material Incorporated by Reference

None.

Issued in Renton, Washington, on October 13, 2016.
Michael Kaszycki,
Acting Manager, Transport Airplane Directorate, Aircraft Certification Service.

[FR Doc. 2016-25747 Filed 10-25-16; 8:45 am]

BILLING CODE 4910-13-P